DEPARTMENT OF TRANSPORTATION

Federal Aviation Administration

Public Notice for Waiver of Aeronautical Land-Use Assurance

AGENCY: Federal Aviation Administration (FAA), DOT.

ACTION: Notice of intent of waiver with respect to land; Indianapolis International Airport, Indianapolis, Indiana.

SUMMARY: The FAA is considering a proposal to change 22.111 acres of airport land from aeronautical use to non-aeronautical use and to authorize the sale of airport property located at Indianapolis International Airport, Indianapolis, Indiana. The aforementioned land is not needed for aeronautical use. The future use of the property is for commercial and industrial development. The land is located on the northwest corner of Ronald Reagan Parkway and Stafford Road.

There are no impacts to the airport by allowing the Indianapolis Airport Authority to dispose of the property.

DATES: Comments must be received on or before October 6, 2017.

ADDRESSES: Documents are available for review by appointment at the FAA Chicago Airports District Office, Melanie Myers, Program Manager, 2300 East Devon Avenue, Des Plaines, IL 60018 Telephone: (847) 294-7525/Fax: (847) 294-7046 and Eric Anderson, Director of Properties, Indianapolis Airport Authority, 7800 Col. H. Weir Cook Memorial Drive, Indianapolis, Indiana 46241 (317) 487-5135

Written comments on the Sponsor's request must be delivered or mailed to: Melanie Myers, Program Manager, Federal Aviation Administration, Chicago Airports District Office, 2300 East Devon Avenue, Des Plaines, Illinois 60018 Telephone Number: (847) 294-7525/FAX Number: (847) 294-7046.

FOR FURTHER INFORMATION CONTACT: Melanie Myers, Program Manager, Federal Aviation Administration, Chicago Airports District Office, 2300 East Devon Avenue, Des Plaines, IL 60018 Telephone: (847) 294-7525/Fax: (847) 294-7046.

SUPPLEMENTARY INFORMATION: In accordance with section 47107(h) of Title 49, United States Code, this notice is required to be published in the Federal Register 30 days before modifying the land-use assurance that requires the property to be used for an aeronautical purpose.

The vacant land consists of fifteen (15) original airport acquired parcels. These parcels were acquired under grants 3-18-0038-17, 3-18-0038-18, 3-18-0038-23, 3-18-0038-24, 3-18-0038-25, 3-18-0038-45, or without federal participation. The future use of the property is for commercial and industrial development.

The disposition of proceeds from the sale of the airport property will be in accordance with FAA's Policy and Procedures Concerning the Use of Airport Revenue, published in the Federal Register on February 16, 1999 (64 FR 7696).

This notice announces that the FAA is considering the release of the subject airport property at the Indianapolis International Airport from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description

Part of the Northwest Quarter of Section 32, Township 15 North, Range 2 East in Hendricks County, Indiana, more particularly described as follows:

Commencing at a mag nail with washer stamped “Cripe Firm No. 0055” (hereinafter referred to as “a mag nail”) at the Southeast corner of the Northwest Quarter of said Section 32; thence North 00 degrees 23 minutes 29 seconds East (assumed bearing) along the East line of said Northwest Quarter 117.10 feet; thence North 89 degrees 36 minutes 38 seconds West 16.50 feet to a ⅝ inch diameter rebar with a yellow plastic cap stamped “Cripe Firm No. 0055” (hereinafter referred to as “a rebar”) on the West right of way line of Ronald Reagan Parkway and the POINT OF BEGINNING; thence North 00 degrees 23 minutes 29 seconds East along the said West right of way line and parallel to the said East line 1250.78 feet to the North line of land described in Deed Record 301, page 852, recorded in the Office of the Recorder of Hendricks County, Indiana; thence North 89 degrees 59 minutes 55 seconds West parallel with the South line of said Northwest Quarter 755.60 feet to the Northwest corner of land described in Deed Record 301, page 406, recorded in said Recorder's Office and “a rebar”; thence South 00 degrees 23 minutes 29 seconds West parallel with the East line of said Northwest Quarter 723.00 feet to the Southwest corner of land described in Deed Record 303, page 419, recorded in said Recorder's Office; thence South 89 degrees 59 minutes 55 seconds East along the South line of said described land and parallel with the South line of said Northwest Quarter 191.30 feet to the Northwest corner of land described in Deed Record 312, page 3, recorded in said Recorder's Office and “a rebar”; thence South 00 degrees 23 minutes 29 seconds West along the West line of said described land and parallel with the East line of said Northwest Quarter 150.00 feet to the North line of land described in Deed Record 299, page 605, recorded in said Recorder's Office; thence North 89 degrees 59 minutes 55 seconds West along said North line and parallel with the South line of said Northwest Quarter 191.30 feet to the Northwest corner thereof; thence South 00 degrees 23 minutes 29 seconds West along the West line of said described land and parallel with the East line of said Northwest Quarter 146.52 feet to the Northeast corner of land described in Instrument No. 199800012353, recorded in said Recorder's Office and “a rebar”; thence North 89 degrees 59 minutes 55 seconds West along the North line of said described land and parallel with the South line of said Northwest Quarter 125.00 feet to the Northwest corner thereof; thence South 00 degrees 23 minutes 29 seconds West along the West line of said described land and parallel with the East line of said Northwest Quarter 236.93 feet to “a rebar” on the North right of way line of Stafford Road (the next four courses are along said North right of way line); (1) thence South 89 degrees 59 minutes 55 seconds East parallel with the said South line 132.72 feet to “a rebar”; (2) thence South 81 degrees 28 minutes 04 seconds East 132.70 feet to “a rebar”; (3) thence South 89 degrees 59 minutes 55 seconds East parallel with the said South line 574.15 feet to “a rebar”; (4) thence North 59 degrees 12 minutes 36 seconds East 49.52 feet to the POINT OF BEGINNING, containing 22.111 acres, more or less

Issued in Des Plaines, Illinois on August 29, 2017.
Carlton Lambiasi,
Acting Manager, Chicago Airports District Office, FAA, Great Lakes Region.

[FR Doc. 2017-18845 Filed 9-5-17; 8:45 am]

BILLING CODE 4910-13-P